DEPARTMENT OF ENERGY

Office of International Affairs; Asia-Pacific Economic Cooperation Energy Ministers Conference

AGENCY: Department of Energy.

ACTION: Notice of upcoming conference.

SUMMARY: The U.S. Department of Energy and the City of San Diego, California, will co-sponsor the Asia-Pacific Economic Cooperation (APEC) Energy Ministers Conference: “Turning Vision Into Reality,” in San Diego, California. The Conference will focus on strategies to implement existing policy commitments and to enhance investment in clean and sustainable energy development, on opportunities for regional energy market integration, and on continued transition to a market-oriented business climate. The region's energy ministers, and representatives of the private sector, multilateral institutions and nongovernment organizations will work together to create a vision for the 21st Century that will support clean and sustainable energy and economic development.

DATES: The three-day conference will be held from May 10-12, 2000.

FOR FURTHER INFORMATION CONTACT: For further information and to register on line, please visit our website on www.apecenergy.org. You may also contact APEC Conference Headquarters on 703-352-7633, or via fax on 703-352-9513 for further information regarding the conference. For inquires regarding exhibits for industry displays, please contact John Reyes in San Diego, California by telephone on 619-557-2803.

SUPPLEMENTARY INFORMATION: This is the first time the Department of Energy has hosted an APEC Energy Ministers Conference. Initial plans for the Conference were announced in February.

Attendees: Approximately 600 participants are expected to attend the event, including representation by international and regional organizations such as the World Bank, International Finance Corporation, and the Asian Development Bank; Energy Ministers and representatives of APEC member economies; and private sector representatives from the region's major electricity, oil, gas, renewable and energy efficiency, energy service and coal companies.

Issued in Washington, DC on March 24, 2000.
David L. Goldwyn,
Assistant Secretary for International Affairs.

[FR Doc. 00-8327 Filed 4-4-00; 8:45 am]

BILLING CODE 6450-01-P